NATIONAL SCIENCE FOUNDATION

Request of Recommendations for Membership for Directorate and Office Advisory Committees

ACTION: Notice.

SUMMARY: The National Science Foundation (NSF) requests recommendations for membership on its scientific and technical federal advisory committees. Recommendations should consist of the submitting person's or organization's name and affiliation, the name of the recommended individual, the recommended individual's curriculum vita, an expression of the individual's interest in serving, and the following recommended individual's contact information: employment address, telephone number, FAX number, and email address. Self recommendations are accepted. If you would like to make a membership recommendation for any of the NSF scientific and technical Federal advisory committees, please send your recommendation to the appropriate committee contact person listed in the chart below.

ADDRESSES: The mailing address for the National Science Foundation is 4201 Wilson Boulevard, Arlington, VA 22230.

Web links to individual committee information may be found on the NSF Web site: NSF Advisory Committees.

SUPPLEMENTARY INFORMATION: Each Directorate and Office has an external advisory committee that typically meets twice a year to review and provide advice on program management; discusses current issues; and reviews and provides advice on the impact of policies, programs, and activities in the disciplines and fields encompassed by the Directorate or Office. In addition to Directorate and Office advisory committees, NSF has several committees that provide advice and recommendations on specific topics including: astronomy and astrophysics; environmental research and education; equal opportunities in science and engineering; advanced cyberinfrastructure; international science and engineering; and business and operations.

A primary consideration when formulating committee membership is recognized knowledge, expertise, or demonstrated ability.¹ Other factors that may be considered are balance among diverse institutions, regions, and groups underrepresented in science, technology, engineering, and mathematics. Committee members serve for varying term lengths, depending on the nature of the individual committee. Although we welcome the recommendations we receive, we regret that NSF will not be able to acknowledge or respond positively to each person who contacts NSF or has been recommended. NSF intends to publish a similar notice to this on an annual basis. NSF will keep recommendations active for 12 months from the date of receipt.

¹ Federally registered lobbyists are not eligible for appointment to these Federal advisory committees.

The chart below is a listing of the committees seeking recommendations for membership. Recommendations should be sent to the contact person identified below. The chart contains web addresses where additional information about individual committees are available.

Advisory committee | Contact person
Advisory Committee for Biological Sciences http://www.nsf.gov/bio/advisory.jsp | Charles Liarakos, Directorate for Biological Sciences; phone: (703) 292-8400; email: cliarako@nsf.gov; fax: (703) 292-9154.
Advisory Committee for Computer and Information Science and Engineering http://www.nsf.gov/cise/advisory.jsp | Carmen Whitson, Directorate for Computer and Information Science and Engineering; phone: (703)292-8900; email: cwhitson@nsf.gov; fax: (703) 292-9074.
Advisory Committee for Cyberinfrastructure https://www.nsf.gov/cise/aci/advisory.jsp | Kristen Oberright, Division of Advanced Cyberinfrastructure, phone: (703) 292-7151; koberrig@nsf.gov; fax: (703) 292-9060.
Advisory Committee for Education and Human Resources http://www.nsf.gov/ehr/advisory.jsp | Keaven Stevenson, Directorate for Education and Human Resources; phone: (703) 292-8600; email: kstevens@nsf.gov; fax: (703) 292-9179.
Advisory Committee for Engineering http://www.nsf.gov/eng/advisory.jsp | Cecile Gonzalez, Directorate for Engineering; phone: (703) 292-8300; email: cjgonzal@nsf.gov; fax: (703) 292-9013.
Advisory Committee for Geosciences http://www.nsf.gov/geo/advisory.jsp | Melissa Lane, Directorate for Geosciences: phone: (703) 292-8500; email: mlane@nsf.gov; fax: (703) 292-9042.
Advisory Committee for International Science and Engineering http://www.nsf.gov/od/oise/advisory.jsp | Cassandra Dudka, Office of International Science and Engineering, phone: (703) 292-7250; email: cdudka@nsf.gov; fax: (703) 292-9067.
Advisory Committee for Mathematical and Physical Sciences http://www.nsf.gov/mps/advisory.jsp | Eduardo Misawa, Directorate for Mathematical and Physical Sciences; phone: (703) 292-8800; email: emisawa@nsf.gov; fax: (703) 292-9151.
Advisory Committee for Social, Behavioral & Economic Sciences http://www.nsf.gov/sbe/advisory.jsp | Deborah Olster, Directorate for Social, Behavioral & Economic Sciences; phone: (703) 292-8700; email: dholster@nsf.gov; fax: (703) 292-9083.
Committee on Equal Opportunities in Science and Engineering http://www.nsf.gov/od/oia/activities/ceose/ | Bernice Anderson, Office of Integrative Activities; phone: (703) 292-8040; email: banderso@nsf.gov; fax: (703) 292-9040.
Advisory Committee for Business and Operations http://www.nsf.gov/oirm/bocomm/ | Jeffrey Rich, Office of Information and Resource Management; phone: (703) 292-8100; email: jrich@nsf.gov; fax:(703) 292-9084.
Advisory Committee for Environmental Research and Education http://www.nsf.gov/dir/index.jsp?org=ERE | Stephen Meacham, Office of Integrative Activities; phone: (703) 292-8040; email: smeacham@nsf.gov; fax: (703) 292-9040.
Astronomy and Astrophysics Advisory Committee http://www.nsf.gov/mps/ast/aaac.jsp | Elizabeth Pentecost, Division of Astronomical Sciences; phone: (703) 292-4907; email: epenteco@nsf.gov; fax: (703) 292-9034.

Dated: April 4, 2016.
Crystal Robinson,
Committee Management Officer.

[FR Doc. 2016-07956 Filed 4-6-16; 8:45 am]

BILLING CODE 7555-01-P